FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 26, 2013.

A. Federal Reserve Bank of Chicago (Colette A. Fried, Assistant Vice President) 230 South LaSalle Street, Chicago, Illinois 60690-1414:

1. MBG Investors I, LP, Mexico City, Mexico, and its partners, Antonio del Valle Ruiz, Antonio del Valle Perochena, Francisco Javier del Valle Perochena, Juan Pablo del Valle Perochena, Ignacio del Valle Ruiz and Adolfo del Valle Ruiz, all of Mexico City, Mexico, together as a group acting concert with Fambeck Servicios Financieros del Exterior, S.A. de C.V., Mexico City, Mexico, and Juan Francisco Beckmann Vidal, Mexico City, Mexico; ECR Holding, S.A. de C.V., Nuevo Leon, Mexico, and Eugenio Santiago Clariond Reyes and Alejandra Rangel Hinojosa both of Nuevo Leon, Mexico; ETH Trigo Holding, S.A. de C.V., Durango, Mexico, and Eduardo Tricio Haro, Durango, Mexico; Tenedora Rosario ETG, S.A., de C.V., Coahuila, Mexico, and Eduardo Tricio Gomez, Coahuila, Mexico; Tenedora Jacaru, S.A.de C.V., Mexico City, Mexico, Jaime Ruiz Sacristan, Mexico City, Mexico, and Carlos Ruiz Sacristan, Mexico, City, Mexico; Tenedora de Acciones ACA, S.A. de C.V., Antonio Cosio Arino and Antonio Cosio Pando, all of Mexico City, Mexico; MBI Holding, LP, Mexico City, Mexico and Fernando Gerardo Chico Pardo, Mexico City, Mexico; Malugo LP, Mexico City, Mexico, and Maria Luisa Guadalupe Gonzalez Cardenas, Mexico City, Mexico; Aguila Real, LP, Dallas, Texas, Jorge Esteve Recolons and Patricia Estave, both of Dallas Texas; Barce Financial, LP, Dallas, Texas, Felipe Esteve Recolons and Marta Esteve Recolons, both of Dallas Texas; Alanbal, LP, Dallas, Texas and Edward Andres Esteve Creixell, both of Dallas, Texas; Inversiones Plano, LP, Claudia Esteve Vila, and Maria Esteve Vila, all of Dallas, Texas: Double B. Holdings, LP, Mexicio City, Mexico and Rogelio Barrenechea Banzalez, Mexico City, Mexico; Constructora Maiz Mier, S.A. de C.V, Jose Sebastian Maiz Garcia, Carlos Francisco Maiz Garcia and Ricardo Javier Maiz Garcia, all of Nuevo Leon, Mexico; Global Stockholder, S.A. de C.V., David Troice Jalife, Jacobo Troice Jalife, Jaime Abadi Cherem, Elias Abadi Cherem, all of Mexico City, Mexico; Tenedora FAMVA, S.A. de C.V., Fernando Manuel del Valle Yanez, Maria de las Mercedes del Valle Yanez, Ana Maria del Valle Yanez, and Maria Jose del Valle Yanez, all of Mexico City, Mexico; ZB Holding, S.A. de C.V. and Enrique de Jesus Zambrano Benitez, both of Nuevo Leon, Mexico; Promotora Priesi, S.A. de C.V., Javier Carlos Prieto Sierra, and Carlos Francisco Prieto Sierro, all of Mexico City, Mexico; Mata Martin, S.A.P.I. de C.V. and Armando Mata Martin, both of Mexico City, Mexico; IZA Investments, LP, Mexico City, Mexico, Ernesto Morales Garza, Helue Iza Milan, Helue Renee Morales Iza, Pedro Ernesto Morales Iza, all of Mexico City, Mexico; CLK Holding, S.A. de C.V. and Maria Daniela Garcia Gamez, both of Nuevo Leon, Mexico; Vultus Capital Partners, S.A. de C.V., Mexico City, Mexico, Benito Grinberg Kriemerman, Leopoldo Grinberg, Arturo Grinberg, Sergio Grinberg, and Carla Persovski, all of Mexico City, Mexico; MEG Holding, S.A. de C.V., Angel Abel Munoz Aguirre and Jose Javier Jorge Alberto Gonzalez Egea, all of Mexico City, Mexico; Impulsora Ridi, S.A. de C.V. and Ener Enrique Escobar Aquirre, both of Mexico City, Mexico; Anmoor Civil, Co., Aventura, Florida, Alejandro Finkler Kudler and Ruth Kolangui Nissanoff, both of Aventura, Florida; Roberto R. Herencia, Chicago, Illinois; Alberto Paracchini, Chicago, Illinois; Lindsay Corby, Chicago, Illinois; and Sandra Thoms, Chicago, Illinois; to acquire voting shares of Metropolitan Bank Group, Inc., Chicago, Illinois, and thereby indirectly acquire voting shares of North Community Bank, Metrobank, Archer Bank, Plaza Bank, all in Chicago, Illinois, and Oswego Community Bank, Oswego, Illinois.

B. Federal Reserve Bank of St. Louis (Yvonne Sparks, Community Development Officer) P.O. Box 442, St. Louis, Missouri 63166-2034:

1. Charles C. Martin, individually and as a member of a family control group that includes Lynne B. Martin, both of Bowling Green, Kentucky; to retain voting shares of Ambanc Holding Company, Inc., and thereby indirectly retain voting shares of American Bank & Trust Company, Inc., both in Bowling Green, Kentucky.

Board of Governors of the Federal Reserve System, April 8, 2013.
Margaret McCloskey Shanks,
Deputy Secretary of the Board.

[FR Doc. 2013-08479 Filed 4-10-13; 8:45 am]

BILLING CODE 6210-01-P